DEPARTMENT OF DEFENSE

Department of the Army, Corps of Engineers

Availability of Draft Environmental Impact Statement for the Proposed Construction of a Dredged Material Containment Facility in the Patapsco River, at Masonville, Baltimore City, MD

AGENCY: Department of the Army, U.S. Army Corps of Engineers, DOD.

ACTION: Notice of availability.

SUMMARY: In accordance with requirements of the National Environmental Policy Act (NEPA), the U.S. Army Corps of Engineers (USACE), Baltimore District, has prepared a Draft Environmental Impact Statement (DEIS) for the proposed construction of a dredged material containment facility (DMCF) by the Maryland Port Administration (MPA). This DEIS was prepared as part of the submission of MPA's application for a Department of the Army permit to construct the facility in the Patapsco River, Baltimore City, MD. This application will be evaluated pursuant to section 10 or the Rivers and Harbors Act of 1899 and section 404 of the Clean Water Act.

The preferred alternative is for the construction of a stone, sand, and cofferdam structure that would impact approximately 131 acres of waters of the United States, including jurisdictional wetlands. The structure would be initially constructed to 10 feet above the mean lower low water (MLLW) elevation, with a future temporary elevation to 42 feet above MLLW, and an ultimate elevation of 36 feet above MLLW. The project would also include mechanical dredging of approximately 1.7 million cubic yards of overburden material within the footprint of the proposed disposal site, and the placement of this material at the Hart Miller Island disposal site, Baltimore County, MD. Hydraulic dredging of approximately 1.5 million cubic yards of sand would be performed, and the sand used to construct the outer portion of the containment structure. Approximately 0.5 million cubic yards of clay is to be mechanically/hydraulically dredged and placed on the inside of this structure. Two new spillway structures and discharge outfalls are to be included in the construction of the DMCF. Other work associated with the construction of the DMCF is the relocation of a city water main line and storm drain systems, and the relocation of a commercial mooring buoy. The total proposed footprint of the proposed project is 141 acres.

DATES: The Baltimore District must receive comments on or before July 7, 2006 to ensure consideration in the final action. A public hearing on the DEIS has been scheduled for Wednesday, June 21, 2006 at 7 p.m. Displays will be available and representatives of the project team will be present at 6 p.m.

ADDRESSES: The public hearing will be held in the Baum Auditorium at Harbor Hospital, 3001 South Hanover Street, Baltimore, Maryland 21225. Please send written comments concerning this proposed project to U.S. Army Corps of Engineers, Baltimore District, Attn: Mr. Jon Romero, CENAB-OP-RMN, PO Box 1715, Baltimore, MD 21203-1715. You may submit electronic comments to jon.romeo@usace.army.mil. Your comments must be contained in the body of your message; please do not send attached files. Please include your name and address in your message.

FOR FURTHER INFORMATION CONTACT: Mr. Jon Romeo, (410) 962-6079.

SUPPLEMENTARY INFORMATION: The EIS integrates analyses and consultation required by the National Environmental Policy Act (NEPA), section 10 of the Rivers and Harbors Act of 1899, Section 401 and Section 404 of the Clean Water Act, Section 7 of the Endangered Species Act, the Clean Air Act, the U.S. Fish and Wildlife Coordination Act, Section 106 of the National Historic Preservation Act, and the Magnuson-Stevens Fishery Conservation and Management Act. All appropriate documentation (i.e. section 7 and section 106 coordination letters and public and agency comments) will be obtained and included as part of the EIS. The decision on whether or not to issue a Department of the Army permit for this project will reflect the national concern for the protection and utilization of important resources. The benefits which may reasonably be expected to accrue from the proposal will be balanced against its reasonably foreseeable detriments. All factors that may be relevant to the proposal will be considered. Among these are wetlands, fish and wildlife resources, cultural resources, land use, water and air quality, hazardous, toxic and radioactive substances, threatened and endangered species, regional geology, aesthetics, environmental justice, navigation, cumulative impacts, and the general needs and welfare of the public.

Vance G. Hobbs,
Chief, Maryland Section Northern.

[FR Doc. 06-4683 Filed 5-18-06; 8:45 am]

BILLING CODE 3710-41-M